NEIGHBORHOOD REINVESTMENT CORPORATION

Sunshine Act Meetings

TIME AND DATE: 2:00 p.m., Thursday, December 18, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Action Item: Election of Chief of Staff and Senior Deputy Comptroller Kate Tyrrell as Temporary Board Chair

III. Action Item: Approval of Government in Sunshine Act Notice Waiver

IV. Discussion Item: FY25 External Audit with CliftonLarsonAllen

V. Sunshine Act Approval of Executive (Closed) Session

VI. Executive Session: FY25 External Audit with CliftonLarsonAllen

VII. Executive Session: Questions on Reports from Officers & Board Appointees

VIII. Action Item: Approval of Meeting Minutes for June 26 Annual Board Meeting and September 11 Regular Board Meeting

IX. Action Item: Internal Audit Report Acceptance

a. Active Directory Management

b. Cyber Attack Incident Response II

c. Network Affiliations

X. Discussion Item: Change to FY25/26 Internal Audit Plan

XI. Discussion Item: Lapse in Funding Policy—OMB Requested Edit

XII. Discussion Item: Management Program Background and Updates

a. 2026 Board Calendar

b. 2026 Board Agenda Planner

c. CFO Report

i. Financials (through 9/30/25)

ii. Single Invoice Approvals $100K and over

iii. Vendor Payments $350K and over

iv. Exceptions

d. FY25-FY27 SP Scorecard—Q4

e. Network Watchlist Report

PORTIONS OPEN TO THE PUBLIC:

Everything except the Executive (Closed) Session.

PORTIONS CLOSED TO THE PUBLIC:

Executive (Closed) Session.

CONTACT PERSON FOR MORE INFORMATION: Jenna Sylvester, Paralegal, (202) 568-2560; jsylvester@nw.org.

Jenna Sylvester,
Paralegal.

[FR Doc. 2025-23674 Filed 12-19-25; 11:15 am]

BILLING CODE 7570-01-P